FEDERAL COMMUNICATIONS COMMISSION

47 CFR Part 54

[WC Docket No. 10-90; FCC 19-104]

Connect America Fund; Correction

AGENCY: Federal Communications Commission.

ACTION: Final rule, correction.

SUMMARY: This document corrects errors in the SUPPLEMENTARY INFORMATION portion of a Federal Register document reviewing performance measures for recipients of Connect America Fund high-cost universal services support to ensure that those standards strike the right balance between ensuring effective use of universal service funds while granting the flexibility providers need given the practicalities of network deployment in varied circumstances. The summary was published in the Federal Register on December 9, 2019.

DATES: Effective January 8, 2020.

FOR FURTHER INFORMATION CONTACT: Suzanne Yelen, Wireline Competition Bureau, (202) 418-7400.

SUPPLEMENTARY INFORMATION: This summary contains corrections to the SUPPLEMENTARY INFORMATION portion of a Federal Register summary, 84 FR 67220 (December 9, 2019). The full text of the Commission's Order on Reconsideration in WC Docket No. 10-90; FCC 19-104, released on October 31, 2019 is available for public inspection during regular business hours in the FCC Reference Center, Room CY-A257, 445 12th Street SW, Washington, DC 20554.

In Final rule FR Doc. 2019-26448, published December 9, 2019 (84 FR 67220), make the following correction:

1. On page 67235, in the first column, in the third, fourth, fifth and sixth lines, the text “except for paragraphs 15, 16, 19, 22, 23, 26, 31 through 38, 43 through 49, 52, 53, 64 and 75 through 91” is corrected to read “except for paragraphs 8, 9, 12, 15, 16, 19, 24 through 31, 37 through 42, 45, 46, 57, and 68 through 84.”

Federal Communications Commission.
Cecilia Sigmund,
Federal Register Liaison Officer.

[FR Doc. 2019-28182 Filed 1-7-20; 8:45 am]

BILLING CODE 6712-01-P